NATIONAL AERONAUTICS AND SPACE ADMINISTRATION

[Notice: (13-076)]

NASA Advisory Council; Audit, Finance and Analysis Committee; Meeting.

AGENCY: National Aeronautics and Space Administration.

ACTION: Notice of Meeting.

SUMMARY: In accordance with the Federal Advisory Committee Act, Public Law 92-463, as amended, the National Aeronautics and Space Administration announces a meeting of the Audit, Finance and Analysis Committee of the NASA Advisory Council (NAC). This Committee reports to the NAC.

DATES: Monday, July 29, 2013, 9:00 a.m.-4:30 p.m., Local Time; and Tuesday, July 30, 2013, 10:00 a.m.-11:15 a.m., Local Time.

ADDRESSES: NASA Headquarters, Room 8E40, 300 E Street SW., Washington, DC 20546.

FOR FURTHER INFORMATION CONTACT: Ms. Angela Herring, Executive Secretary, Office of the Chief Financial Officer, NASA Headquarters, Washington, DC 20546. Phone: (202) 358-1698.

SUPPLEMENTARY INFORMATION: The agenda for the meeting includes briefings on the following topics:

• Finance Update

• Strategy, Performance, Budget Update

• Conference Cost Reporting Update

• FY 2013 Financial Statement Audit—Unfunded Environmental Liability Estimation

• Federal Accounting Standards Advisory Board—Exposure Draft (Reporting Entity)

• Office of Management and Budget Initiatives

• Financial Statement Audit Update

• Office of the Inspector General Audit Update

The meeting will be open to the public up to the seating capacity of the room. It is imperative that the meeting be held on this date to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Angela Herring at fax (202) 358-4336. U.S. citizens and Permanent Residents (green card holders) are requested to submit their name and affiliation 3 working days prior to the meeting to Angela Herring at (202) 358-1698 or fax (202) 358-4336.

Patricia D. Rausch,
Advisory Committee Management Officer, National Aeronautics and Space Administration.

[FR Doc. 2013-16656 Filed 7-10-13; 8:45 am]

BILLING CODE 7510-13-P